DEPARTMENT OF HOMELAND SECURITY

Coast Guard

33 CFR Part 165

[Docket No. USCG-2011-0451]

Safety Zone, Seafair Air Show Performance, Seattle, WA

AGENCY: Coast Guard, DHS.

ACTION: Notice of enforcement of regulation.

SUMMARY: The Coast Guard will enforce the annual Seafair Air Show safety zone on Lake Washington, Seattle, WA from 8 a.m. on July 30, 2015 to 4 p.m. on August 2, 2015. This action is necessary to ensure the safety of the public from inherent dangers associated with these annual aerial displays. During the enforcement period, no person or vessel may enter or transit this safety zone unless authorized by the Captain of the Port or Designated Representative.

DATES: The regulations in 33 CFR 165.1319 will be enforced from 8 a.m. on July 30, 2015 through 4 p.m. on August 2, 2015.

FOR FURTHER INFORMATION CONTACT: If you have questions on this notice of enforcement, call or email LTJG Johnny Zeng, Sector Puget Sound Waterways Management Division, Coast Guard; telephone (206) 217-6323, email SectorPugetSoundWWM@uscg.mil.

SUPPLEMENTARY INFORMATION: The Coast Guard will enforce the Seafair Air Show Performance safety zone in 33 CFR 165.1319 daily from 8 a.m. until 4 p.m. from July 30, 2015 through August 2, 2015 unless canceled sooner by the Captain of the Port.

Under the provisions of 33 CFR 165.1319, the following area is designated as a safety zone: All waters of Lake Washington, Washington State, enclosed by the following points: Near the termination of Roanoke Way 47°35′44″ N., 122°14′47″ W.; thence to 47°35′48″ N., 122°15′45″ W.; thence to 47°36′02.1″ N., 122°15′50.2″ W.; thence to 47°35′56.6″ N., 122°16′29.2″ W.; thence to 47°35′42″ N., 122°16′24″ W.; thence to the east side of the entrance to the west high-rise of the Interstate 90 bridge; thence westerly along the south side of the bridge to the shoreline on the western terminus of the bridge; thence southerly along the shoreline to Andrews Bay at 47°33′06″ N., 122°15′32″ W.; thence northeast along the shoreline of Bailey Peninsula to its northeast point at 47°33′44″ N., 122°15′04″ W.; thence easterly along the east-west line drawn tangent to Bailey Peninsula; thence northerly along the shore of Mercer Island to the point of origin. [Datum: NAD 1983]

In accordance with the general regulations in 33 CFR part 165, subpart C, no person or vessel may enter or remain in the zone except for support vessels and support personnel, vessels registered with the event organizer, or other vessels authorized by the Captain of the Port or Designated Representatives. Vessels and persons granted authorization to enter the safety zone shall obey all lawful orders or directions made by the Captain of the Port or Designated Representative.

The Captain of the Port may be assisted by other federal, state and local law enforcement agencies in enforcing this regulation.

This notice of enforcement is issued under authority of 33 CFR 165.1319 and 5 U.S.C. 552(a). In addition to this notice in the Federal Register, the Coast Guard will provide the maritime community with advanced notification of the safety zone via the Local Notice to Mariners and marine information broadcasts on the day of the event. If the COTP determines that the safety zone need not be enforced for the full duration stated in this notice of enforcement, he may use a Broadcast Notice to Mariners to grant general permission to enter the regulated area.

Dated: July 17, 2015.
T.A. Griffitts,
Captain, U.S. Coast Guard, Acting Captain of the Port, Puget Sound.

[FR Doc. 2015-18846 Filed 7-30-15; 8:45 am]

BILLING CODE 9110-04-P